DEPARTMENT OF LABOR

Occupational Safety and Health Administration

Asbestos in General Industry; Extension of the Office of Management and Budget's (OMB) Approval of Information Collection (Paperwork) Requirements; Correction

AGENCY: Occupational Safety and Health Administration (OSHA), Labor.

ACTION: Request for public comment; correction.

SUMMARY: The Occupational Safety and Health Administration (OSHA) published a document in the Federal Register on April 5, 2007, soliciting public comments concerning its proposal to extend OMB approval of the information collection requirements specified in its Asbestos in General Industry Standard (29 CFR 1910.1001). The document contained an incorrect docket number.

FOR FURTHER INFORMATION CONTACT: Todd Owen, Directorate of Standards and Guidance, OSHA, U.S. Department of Labor, Room N-3609, 200 Constitution Avenue, NW., Washington, DC 20210; telephone (202) 693-2222.

Correction

In the Federal Register of April 5, 2007 (72 FR 16830-16832), on page 16830, in the third column; on page 16831, in the first column; and on page 16832, in the first column, correct the Docket No. to read: Docket No. OSHA-2007-0023.

Authority and Signature

Edwin G. Foulke, Jr., Assistant Secretary of Labor for Occupational Safety and Health, directed the preparation of this notice. The authority for this notice is the Paperwork Reduction Act of 1995 (44 U.S.C. 3506 et seq.) and Secretary of Labor's Order No. 5-2002 (67 FR 65008).

Signed at Washington, DC, on April 16, 2007.
Edwin G. Foulke, Jr.,
Assistant Secretary of Labor for Occupational Safety and Health.

[FR Doc. E7-7727 Filed 4-23-07; 8:45 am]

BILLING CODE 4510-26-P